NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before November 5, 2009. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:

1. Department of Agriculture, Grain Inspection, Packers and Stockyards Administration (N1-545-08-3, 20 items, 17 temporary items). Records relating to budget and financial matters, including such records as budget estimates, routine project files, congressional presentations and other materials relating to congressional hearings. Proposed for permanent retention are such records as policy files, annual reports and summaries, and files on significant projects which set a precedent. The proposed disposition instructions are limited to paper records.

2. Department of Health and Human Services, Administration on Aging (N1-439-09-1, 8 items, 5 temporary items). Records of the Assistant Secretary including declined invitations and duplicate/working copies of daily activity schedules, phone logs, and briefing books. Proposed for permanent retention are accepted invitations and recordkeeping copies of telephone logs and briefing books. Recordkeeping copies of daily activity schedules were previously approved for permanent retention.

3. Department of Health and Human Services, Food and Drug Administration (N1-88-09-9, 5 items, 5 temporary items). Master files of electronic information systems used to track administrative workflow for such processes as new drug and biologic product applications, lot testing and distribution, and licensing.

4. Department of Homeland Security, U.S. Coast Guard (N1-26-09-1, 3 items, 3 temporary items). Reports and logs that relate to the movement of dangerous cargoes on inland waterways.

5. Department of the Interior, National Business Center (N1-48-09-6, 10 items, 10 temporary items). Electronic information systems relating to routine administrative matters, such as charge card transactions, finance and accounting activities, bank card training, personnel assignments, procurement actions, and equal employment opportunity reporting.

6. Department of Justice, Federal Bureau of Investigation (N1-65-09-15, 5 items, 5 temporary items). Master files, audit logs, and statistical reports associated with an electronic information system relating to surveillance activities.

7. Department of Justice, Federal Bureau of Investigation (N1-65-09-24, 2 items, 2 temporary items). Master files and usage agreements associated with an electronic information system that contains data concerning violent crimes.

8. Department of Justice, Federal Bureau of Investigation (N1-65-09-29, 3 items, 2 temporary items). Outputs and audit logs associated with an electronic information system that contains data concerning bank robberies. Master files are proposed for permanent retention.

9. Department of the Navy, Naval Criminal Investigative Service (N1-NU-09-7, 11 items, 11 temporary items). Web content records and web management and operations records for the agency's internal and external Web sites.

10. Department of Transportation, Federal Aviation Administration (N1-237-09-7, 2 items, 2 temporary items). Master files and outputs of an electronic information system used to track use of computer applications by agency regional centers.

11. Department of Transportation, Federal Aviation Administration (N1-237-09-8, 2 items, 2 temporary items). Master files of electronic information systems used for surveys used in connection with ISO 9000 certification.

12. Department of Transportation, Federal Aviation Administration (N1-237-09-9, 3 items, 3 temporary items). Master files of electronic information systems used to track use and maintenance of tools, supplies, and equipment.

13. Department of Transportation, Federal Aviation Administration (N1-237-09-10, 1 item, 1 temporary item). Master files of an electronic information system used to maintain information concerning agency owned or leased real estate.

14. Department of Transportation, Federal Aviation Administration (N1-237-09-11, 1 item, 1 temporary item). Master files of an electronic information system that contains data concerning computer equipment.

15. Department of Transportation, National Highway Traffic Safety Administration (N1-416-09-3, 1 item, 1 temporary item). Master files associated with an electronic information system used to track and manage grants.

16. Department of the Treasury, Internal Revenue Service (N1-58-08-13, 3 items, 2 temporary items). Scanned and paper versions of forms relating to one participant pension benefit plans and related working papers. Master files containing information from these forms are proposed for permanent retention.

17. Department of the Treasury, Internal Revenue Service (N1-58-09-49, 1 item, 1 temporary item). Master files of an electronic information system used by agency personnel to obtain information concerning individual taxpayer accounts in order to respond to inquiries.

18. Department of the Treasury, Internal Revenue Service (N1-58-09-52, 1 item, 1 temporary item). Master files of an electronic information system containing data concerning actions stemming from receipt of information from whistleblowers. Data includes identifying information concerning the whistleblower, status of the resulting investigation, and any subsequent payments made to the whistleblower.

19. Export-Import Bank of the United States, Chief Information Office (N1-275-09-5, 1 item, 1 temporary item). Master files of an electronic information system used to prepare reports relating to the Bank's financial activities.

20. Federal Energy Regulatory Commission, Agency-wide (N1-138-09-4, 79 items, 79 temporary items). Docketed formal case files for electric utilities, gas producers and utilities, oil producers and pipelines, hydropower licensing, and miscellaneous filings. Paper recordkeeping copies of these files were previously approved for disposal.

21. National Archives and Records Administration, Office of Presidential Libraries (DAA-0064-2009-0002, 1 item, 1 temporary item). Electronic data relating to the review under the Presidential Records Act and the Freedom of Information Act of unclassified electronic records of the administration of Presidents Ronald Reagan, George H. W. Bush, and William Clinton.

Dated: September 29, 2009.
Sharon Thibodeau,
Deputy Assistant Archivist for Records Services—Washington, DC.

[FR Doc. E9-24038 Filed 10-5-09; 8:45 am]

BILLING CODE 7515-01-P